DEPARTMENT OF DEFENSE

Department of the Navy

Board of Advisors to the Presidents of the Naval Postgraduate School and the Naval War College; Notice of Federal Advisory Committee Meeting

AGENCY: Board of Advisors to the Presidents of the Naval Postgraduate School and the Naval War College, Department of the Navy, Department of Defense.

ACTION: Notice of Federal Advisory Committee meeting.

SUMMARY: The Department of Defense is publishing this notice to announce that the following Federal Advisory Committee meeting of the Board of Advisors to the Presidents of the Naval Postgraduate School and the Naval War College will take place.

DATES: Open to the public October 17-18, 2018.

ADDRESSES: The meeting will be held at 3003 Washington Boulevard, Arlington, VA.

FOR FURTHER INFORMATION CONTACT: Jacquelyn (Jaye) Panza, 831-656-2514 (Voice), 831-656-2789 (Facsimile), jpanza@nps.edu (Email). Mailing address is Naval Postgraduate School, 1 University Circle, Monterey, CA 93943-5001. Website: https://my.nps.edu/web/board-of-advisors/home. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The Committee examines the effectiveness with which the Naval Postgraduate School and the Naval War College are accomplishing its missions.

Agenda: Board of Advisors to the Presidents of the Naval Postgraduate School and the Naval War College Committee (the Committee) and its two subcommittees will be held. This meeting will be open to the public. For more information about the Committee, please visit http://my.nps.edu/web/board-of-advisors. 1. October 17, 2018, 9:00 a.m.-1:00 p.m.: The Naval Postgraduate School Board of Advisors subcommittee will meet to inquire into programs and curricula; instruction; administration; state of morale of the student body, faculty, and staff; fiscal affairs of Naval Postgraduate School and any other matters relating to the operations of the Naval Postgraduate School as the subcommittee considers pertinent. 2. October 17, 2018, 1:00 p.m.-5:00 p.m.: General deliberations and inquiry by the Naval War College Board of Advisors subcommittee into Naval War College programs and mission priorities; re-accreditation review; administration; military construction; leader development continuum; defense planning guidance efforts; and any other matters relating to the operations of the Naval War College as the subcommittee considers pertinent. 3. October 18, 2018, 8:30 a.m.-4:00 p.m.: The Naval Postgraduate School and Naval War College subcommittees will provide out briefs from their meetings to the Committee after which the Committee will discuss topics raised during the subcommittee sessions. The most up-to-date changes to the meeting agenda may be found on the website, https://my.nps.edu/web/board-of-advisors/home.

Meeting Accessibility: Meeting room is fully accessible to persons with disabilities in compliance with applicable disability rights laws.

Written Statements: For access or information, or to send written statements for consideration at the meeting, contact Ms. Jaye Panza, Designated Federal Official, Naval Postgraduate School, at 1 University Circle, Monterey, CA 93943-5001 or by fax at 831-656-3238 by October 8, 2018.

Dated: August 28, 2018.
James Edward Mosimann,
Lieutenant, Judge Advocate General's Corps, U.S. Navy, Alternate Federal Register Liaison Officer.

[FR Doc. 2018-19049 Filed 8-31-18; 8:45 am]

BILLING CODE 3810-FF-P